DEPARTMENT OF THE INTERIOR

Bureau of Land Management

[WO-220-1020-24 1A]

RIN 1004-AD42

Grazing Administration—Exclusive of Alaska

AGENCY: Bureau of Land Management, Interior.

ACTION: Notice of intent to prepare an Environmental Impact Statement for the proposed Amendments of the Bureau of Land Management's grazing administration regulations and announcement of public meetings; correction.

SUMMARY: The Bureau of Land Management (BLM) in this document corrects one internet address and removes reference to another internet address to which the public cannot get access that appear in the notice of intent to prepare an environmental impact statement for proposed amendments to BLM's Grazing Administration Regulations, published in the Federal Register of March 3, 2003.

FOR FURTHER INFORMATION CONTACT: Ted Hudson, 202-452-5042.

Correction

In notice FR Doc. 03-4934, beginning on page 10030 in the issue of March 3, 2003, make the following corrections:

1. In the Addresses section, on page 10031 in the 1st column, correct the internet address immediately following the subheading “Direct Internet response” to read: “http://www.blm.gov/nhp/news/regulatory/index.htm”.

2. In the Supplementary Information section, on page 10032, in the 1st column, correct the final paragraph of the notice by revising it to read:

“Additional information about BLM's Rangeland, Soils, Water, and Air Program is available at any State Office or field office of the Bureau of Land Management.”

Dated: March 5, 2003.
Jim Hughes,
Deputy Director, Bureau of Land Management.

[FR Doc. 03-5717 Filed 3-7-03; 8:45 am]

BILLING CODE 4310-84-P